DEPARTMENT OF COMMERCE

National Oceanic and Atmospheric Administration

50 CFR Part 679

[Docket No. 070213032-7032-01]

RIN 0648-XB79

Fisheries of the Exclusive Economic Zone Off Alaska; Pacific Ocean Perch and Pelagic Shelf Rockfish in the Western Regulatory Area in the Gulf of Alaska

AGENCY: National Marine Fisheries Service (NMFS), National Oceanic and Atmospheric Administration (NOAA), Commerce.

ACTION: Temporary rule; modification of a closure.

SUMMARY: NMFS is opening directed fishing for Pacific ocean perch and pelagic shelf rockfish in the Western Regulatory Area in the Gulf of Alaska (GOA). This action is necessary to fully use the 2007 total allowable catch (TAC) of Pacific ocean perch and pelagic shelf rockfish in the Western Regulatory Area in the GOA.

DATES: Effective 1200 hrs, Alaska local time (A.l.t.), August 1, 2007, through 1200 hrs, A.l.t., December 31, 2007. Comments must be received at the following address no later than 4:30 p.m., A.l.t., August 16, 2007.

ADDRESSES: Send comments to Sue Salveson, Assistant Regional Administrator, Sustainable Fisheries Division, Alaska Region, NMFS, Attn: Ellen Sebastian. Comments may be submitted by:

Mail to: P.O. Box 21668, Juneau, AK 99802;

Hand delivery to the Federal Building, 709 West 9th Street, Room 420A, Juneau, Alaska;

FAX to 907-586-7557;

E-mail to inseason.fakr@noaa.gov and include in the subject line of the e-mail the document identifier: wgpopre.fo.wpd (E-mail comments, with or without attachments, are limited to 5 megabytes); or

Webform at the Federal eRulemaking Portal: http://www.regulations.gov. Follow the instructions at that site for submitting comments.

FOR FURTHER INFORMATION CONTACT: Jennifer Hogan, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

NMFS closed the Pacific ocean perch fishery in the Western Regulatory Area in the GOA under § 679.20(d)(1)(iii) on July 22, 2007 (72 FR 40772, July 25, 2007) and the pelagic shelf rockfish fishery in the Western Regulatory Area in the GOA on July 23, 2007 (72 FR 40773, July 25, 2007).

NMFS has determined that as of July 31, 2007 approximately 790 mt remain in the 2007 Pacific ocean perch directed fishing allowance and 939 mt remain in the 2007 pelagic shelf rockfish directed fishing allowance in the Western Regulatory Area in the GOA. Therefore, in accordance with § 679.25(a)(1)(i), (a)(2)(i)(C) and (a)(2)(iii)(D), and to fully utilize the 2007 TAC of Pacific ocean perch and pelagic shelf rockfish in the Western Regulatory Area in the GOA, NMFS is terminating the previous closure and is reopening directed fishing for Pacific ocean perch and pelagic shelf rockfish in the Western Regulatory Area in the GOA.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the opening of the Pacific ocean perch and pelagic shelf rockfish fisheries in the Western Regulatory Area in the GOA. NMFS was unable to publish a notice providing time for public comment because the most recent, relevant data only became available as of July 31, 2007.

The AA also finds good cause to waive the 30-day delay in the effective date of this action under 5 U.S.C. 553(d)(3). This finding is based upon the reasons provided above for waiver of prior notice and opportunity for public comment.

Without this inseason adjustment, NMFS could not allow the fishery for Pacific ocean perch and pelagic shelf rockfish in the Western Regulatory Area in the GOA to be harvested in an expedient manner and in accordance with the regulatory schedule. Under § 679.25(c)(2), interested persons are invited to submit written comments on this action to the above address until August 16, 2007.

This action is required by § 679.25 and § 679.20 and is exempt from review under Executive Order 12866.

Authority: 16 U.S.C. 1801 et seq.

Dated: July 31, 2007.
Emily Menashes,
Acting Director, Office of Sustainable Fisheries, National Marine Fisheries Service.

[FR Doc. 07-3828 Filed 8-1-07; 2:17 pm]

BILLING CODE 3510-22-S